DEPARTMENT OF COMMERCE

International Trade Administration

[A-533-887]

Carbon and Alloy Steel Threaded Rod From India: Preliminary Results of Antidumping Duty Administrative Review, 2021-2022

AGENCY: Enforcement and Compliance, International Trade Administration, Department of Commerce.

SUMMARY: The U.S. Department of Commerce (Commerce) preliminarily determines that carbon and alloy steel threaded rod (steel threaded rod) from India was sold in the United States at below normal value. The period of review (POR) is April 1, 2021, through March 31, 2022. Interested parties are invited to comment on these preliminary results.

DATES: Applicable May 4, 2023.

FOR FURTHER INFORMATION CONTACT: Nicolas Mayora or Samuel Frost, AD/CVD Operations, Office V, Enforcement and Compliance, International Trade Administration, U.S. Department of Commerce, 1401 Constitution Avenue NW, Washington, DC 20230; telephone: (202) 482-3053 or (202) 482-8180, respectively.

SUPPLEMENTARY INFORMATION:

Background

On April 9, 2020, Commerce published in the Federal Register an antidumping duty order on steel threaded rod from India.¹ On April 1, 2022, we published in the Federal Register a notice of opportunity to request an administrative review of the Order.² On June 9, 2022, based on timely requests for an administrative review, Commerce initiated the administrative review of 114 companies.³ On August 2, 2022, Commerce selected Kanika and RKF as mandatory respondents for individual examination.⁴

¹ See Carbon and Alloy Steel Threaded Rod from India: Amended Final Determination of Sales at Less Than Fair Value and Antidumping Duty Order, 85 FR 19925 (April 9, 2020) (Order).

² See Antidumping and Countervailing Duty Order, Finding, or Suspended Investigation; Opportunity to Request Administrative Review and Join Annual Inquiry Service List, 87 FR 19075 (April 1, 2022).

³ See Initiation of Antidumping and Countervailing Duty Administrative Reviews, 87 FR 35165 (June 9, 2022) (Initiation Notice), as corrected by Initiation of Antidumping and Countervailing Duty Administrative Reviews, 87 FR 48459 (August 9, 2022).

⁴ See Memorandum, “Respondent Selection,” dated August 2, 2022.

On December 16, 2022, Commerce extended the time limit for completing the preliminary results of this review until April 28, 2023.⁵ For a complete description of the events between the initiation of this review and these preliminary results, see the Preliminary Decision Memorandum.⁶

⁵ See Memorandum, “Extension of Deadline for Preliminary Results of Antidumping Duty Administrative Review; 2021-2022,” dated December 16, 2022.

⁶ See Memorandum, “Decision Memorandum for the Preliminary Results of the Antidumping Duty Administrative Review of Carbon and Alloy Steel Threaded Rod from India; 2021-2022,” dated concurrently with, and hereby adopted by, this notice (Preliminary Decision Memorandum).

Scope of the Order

The merchandise covered by the scope of this Order is carbon and alloy steel threaded rod. A complete description of the scope of the Order is contained in the Preliminary Decision Memorandum.⁷

⁷ Id. at “Scope of the Order.”

Methodology

Commerce is conducting this review in accordance with section 751(a) of the Tariff Act of 1930, as amended (the Act). We calculated export price in accordance with section 772(a) of the Act. Normal value (NV) is calculated in accordance with section 773 of the Act. For a full description of the methodology underlying these preliminary results, see the Preliminary Decision Memorandum. See appendix I for a complete list of topics discussed in the Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we have preliminarily calculated a weighted-average dumping margin of 2.37 percent for RKF and zero percent for Kanika. Therefore, in accordance with section 735(c)(5)(A) of the Act, we are preliminarily applying RKF's weighted average dumping margin of 2.37 percent to the non-examined companies (see Appendix II for a full list of these companies), because this is the only rate that is not zero, de minimis, or based entirely on facts available.

Preliminary Results of the Review

Commerce preliminarily determines that the following estimated weighted-average dumping margins exist during the period April 1, 2021, through March 31, 2022:

Exporter/producer | Estimated weighted- average dumping margin (percent)
Kanika Exports | 0.00
R K Fasteners (India) | 2.37
Non-Examined Companies ⁸ | 2.37

Disclosure and Public Comment

⁸ See appendix II for a list of these companies.

Commerce intends to disclose to interested parties the calculations performed for these preliminary results within five days of the date of publication of this notice in accordance with 19 CFR 351.224(b). Pursuant to 19 CFR 351.309(c), interested parties may submit case briefs no later than 30 days after the date of publication of this notice. Rebuttal briefs, limited to issues raised in the case briefs, may be filed no later than seven days after the date for filing case briefs.⁹ Commerce modified certain of its requirements for servicing documents containing business proprietary information until further notice.¹⁰ Parties who submit case briefs or rebuttal briefs in this proceeding are encouraged to submit with each argument: (1) a statement of the issue; (2) a brief summary of the argument; and (3) a table of authorities.¹¹ Note that Commerce has temporarily modified certain portions of its requirements for serving documents containing business proprietary information, until further notice.¹²

⁹ See 19 CFR 351.309(d).

¹⁰ See Temporary Rule Modifying AD/CVD Service Requirements Due to COVID-19; Extension Effective Period, 85 FR 41363 (July 10, 2020) (Temporary Rule).

¹¹ See 19 CFR 351.309(c) and (d); see also 19 CFR 351.303 (for general filing requirements).

¹² See Temporary Rule.

Pursuant to 19 CFR 351.310(c), interested parties who wish to request a hearing, limited to issues raised in the case and rebuttal briefs, must submit a written request to the Assistant Secretary for Enforcement and Compliance, U.S. Department of Commerce, filed electronically via ACCESS within 30 days of the date of publication of this notice. Requests should contain: (1) the party's name, address, and telephone number; (2) the number of participants; and (3) a list of the issues to be discussed. An electronically-filed hearing request must be received successfully in its entirety by ACCESS by 5:00 p.m. Eastern Time on the established deadline.

Commerce intends to issue the final results of this administrative review, including the results of its analysis of issues raised in the case briefs, no later than 120 days after the date of publication of this notice, pursuant to section 751(a)(3)(A) of the Act, unless otherwise extended.

Assessment Rates

Upon issuance of the final results of this administrative review, Commerce shall determine, and U.S. Customs and Border Protection (CBP) shall assess, antidumping duties on all appropriate entries covered by this review.¹³ If a respondent's weighted-average dumping margin is not zero or de minimis (i.e., less than 0.5 percent) in the final results of this review, we will calculate importer-specific assessment rates based on the ratio of the total amount of dumping calculated for the importer's examined sales to the total entered value of those same sales in accordance with 19 CFR 351.212(b)(1). We intend to instruct CBP to assess antidumping duties on all appropriate entries covered by this review when the importer-specific assessment rate calculated in the final results of this review is not zero or de minimis. Where an importer-specific assessment rate is zero or de minimis in the final results of this review, we intend to instruct CBP to liquidate the appropriate entries without regard to antidumping duties in accordance with 19 CFR 351.106(c)(2). The final results of this review shall be the basis for the assessment of antidumping duties on entries of merchandise covered by this review and for future deposits of estimated duties, where applicable.¹⁴

¹³ See 19 CFR 351.212(b)(1).

¹⁴ See section 751(a)(2)(C) of the Act.

In accordance with Commerce's “automatic assessment” practice, for entries of subject merchandise during the POR produced by Kanika or RKF for which these companies did not know that the merchandise was destined for the United States, we will instruct CBP to liquidate those entries at the all-others rate established in the original less-than-fair-value (LTFV) investigation,¹⁵ if there is no rate for the intermediate company(ies) involved in the transaction.¹⁶ For the companies which were not selected for individual review, we will assign an assessment rate based on the review-specific average rate, calculated as noted in the “Preliminary Results of Review” section above.

¹⁵ See Order, 85 FR at 19926.

¹⁶ For a full description of this practice, see Antidumping and Countervailing Duty Proceedings: Assessment of Antidumping Duties, 68 FR 23954 (May 6, 2003).

We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of this administrative review for all shipments of the subject merchandise entered, or withdrawn from warehouse, for consumption on or after the date of publication, as provided by section 751(a)(2)(C) of the Act: (1) the cash deposit rate for the companies listed in the final results of this review will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review, or the original investigation, but the producer is, then the cash deposit rate will be the rate established for the most recently-completed segment of this proceeding for the producer of the merchandise; (4) the cash deposit rate for all other producers or exporters will continue to be 0.00 percent, the all-others rate established in the LTFV investigation as adjusted for the export-subsidy rate in the companion countervailing duty investigation.¹⁷ The cash deposit requirements, when imposed, shall remain in effect until further notice.

¹⁷ See Order, 85 FR at 19926.

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing these results in accordance with sections 751(a)(1) and 777(i)(1) of the Act and 19 CFR 351.221(b)(4).

Dated: April 27, 2023.
Lisa W. Wang,
Assistant Secretary for Enforcement and Compliance.

Appendix I

List of Topics Discussed in the Preliminary Decision Memorandum

I. Summary

II. Background

III. Scope of the Order

IV. Discussion of the Methodology

V. Currency Conversion

VI. Recommendation

Appendix II

List of Companies Not Individually Examined

1. A H Enterprises

2. Aadi Shree Fastener Industries

3. Aanjaney Micro Engy Pvt., Ltd.

4. Accurate Steel Forgings (I) Ltd.

5. Alps Industries Ltd.

6. Apex Thermocon Pvt., Ltd.

7. Ash Hammer Union

8. Astrotech Steels Pvt., Ltd.

9. Atlantic Container Line Pvt., Ltd.

10. Ats Exp. 07

11. Atz Shipping Trade & Transport Pvt.

12. BA Metal Processing

13. Babu Exports

14. Bee Dee Cycle Industries

15. Bhansali Inc.

16. Boston Exp. & Engineering Co.

17. C.H.Robinson International (India)

18. C.P.World Lines Pvt., Ltd.

19. Century Distribution Systems Inc.

20. Charu Enterprises

21. Chirag International

22. Daksh Fasteners

23. Dedicated Imp. & Exp. Co.

24. Dhiraj Alloy & Stainless Steel

25. Dsv Air and Sea Pvt., Ltd.

26. Eastman Industries Ltd.

27. Eos Precision

28. ESL Steel Ltd.

29. Everest Exp.

30. Everest Industrial Corporation

31. Farmparts Company

32. Fence Fixings

33. Fine Thread Form Industries

34. Galorekart Marketplace Pvt., Ltd.

35. Ganga Acrowools Ltd.

36. Ganpati Fastners Pvt., Ltd.

37. Gateway Engineering Solution

38. GDPA Fasteners

39. Gee Pee Overseas

40. Geodis India Pvt., Ltd. (Indel)

41. Goodgood Manufacturers

42. Idea Fasteners Pvt., Ltd.

43. Jindal Steel And Power Ltd.

44. JSW Steel Ltd.

45. Kanchan Trading Co.

46. Kanhaiya Lal Tandoor (P) Ltd.

47. Kapson India

48. Kapurthala Industrial Corporation

49. Karna International

50. Kei Industries Ltd.

51. King Exports

52. Kintetsu World Express In

53. Kova Fasteners Pvt., Ltd.

54. Linit Exp. Pvt., Ltd.

55. Mahajan Brothers

56. Maharaja International

57. Mangal Steel Enterprises Ltd.

58. Maya Enterprises

59. Meenakshi India, Ltd.

60. Metalink

61. MKA Engineers And Exporters Pvt., Ltd.

62. National Cutting Tools

63. Nishant Steel Industries

64. NJ Sourcing

65. Noahs Ark International Exp.

66. Nuovo Fastenings Pvt., Ltd.

67. Oia Global India Pvt., Ltd.

68. Otsusa India Pvt., Ltd.

69. Paloma Turning Co. Pvt., Ltd.

70. Patton International Ltd.

71. Perfect Tools & Forgings

72. Permali Wallace Pvt., Ltd.

73. Polycab India Ltd.

74. Pommada Hindustan Pvt., Ltd.

75. Poona Forge Pvt., Ltd.

76. Psl Pipe & Fittings Co.

77. R A Exp.

78. Raajratna Ventures Ltd.

79. Raashika Industries Pvt., Ltd.

80. Rajpan Group

81. Rambal Ltd.

82. Randack Fasteners India Pvt., Ltd.

83. Ratnveer Metals Ltd.

84. Rimjhim Ispat Ltd.

85. Rods & Fixing Fasteners

86. S K Overseas

87. S.M Forgings & Engineering

88. Sandip Brass Industries

89. Sandiya Exp. Pvt., Ltd.

90. Sansera Engineering Pvt., Ltd.

91. Shree Luxmi Fasteners

92. Silverline Metal Engineering Pvt. Ltd.

93. Singhania International Ltd.

94. Sri Satya Sai Enterprises

95. Steampulse Global Llp

96. Steel Authority Of India Ltd.

97. Suchi Fasteners Pvt., Ltd.

98. Supercon Metals Pvt., Ltd.

99. Tekstar Pvt., Ltd.

100. The Technocrats Co.

101. Tijiya Exp. Pvt., Ltd.

102. Tijiya Steel Pvt., Ltd.

103. Tong Heer Fasteners

104. Trans Tool Pvt., Ltd.

105. Universal Engineering and Fabricat

106. V.J Industries Pvt., Ltd.

107. Vidushi Wires Pvt., Ltd.

108. Vrl Automation

109. VV Marine Pvt., Ltd.

110. Yogendra International

111. Zenith Steel Pipes And Industries L

112. Zenith Precision Pvt., Ltd.

[FR Doc. 2023-09424 Filed 5-3-23; 8:45 am]

BILLING CODE 3510-DS-P